DEPARTMENT OF ENERGY

Federal Energy Regulatory Commission

Combined Notice of Filings #1

April 30, 2007.

Take notice that the Commission received the following electric rate filings:

Docket Numbers: ER07-122-002.

Applicants: Interstate Power & Light Company.

Description: Interstate Power and Light Company submits Substitute First Revised Sheets 1 through 17 of the RES-5 Tariff.

Filed Date: 4/23/2007.

Accession Number: 20070426-0151.

Comment Date: 5 p.m. Eastern Time on Monday, May 14, 2007.

Docket Numbers: ER07-763-000.

Applicants: PJM Interconnection, L.L.C.

Description: PJM Interconnection LLC submits executed interconnection construction service agreement with Forward WindPower, LLC.

Filed Date: 4/19/2007.

Accession Number: 20070426-0159.

Comment Date: 5 p.m. Eastern Time on Thursday, May 10, 2007.

Docket Numbers: ER07-782-000.

Applicants: Entergy Services, Inc.

Description: Entergy Services Inc agent for Entergy Operating Companies submits proposed revisions to Attachments P and V of its Open Access Transmission Tariff, FERC Electric Tariff Second Revised Volume 3.

Filed Date: 4/24/2007.

Accession Number: 20070426-0152.

Comment Date: 5 p.m. Eastern Time on Tuesday, May 15, 2007.

Docket Numbers: ER07-783-000.

Applicants: Cleco Power LLC.

Description: Cleco Power LLC submits executed copies of a Service Agreement for Network Integration Transmission Service w/Louisiana Energy and Power Authority and a Network Operating Agreement etc.

Filed Date: 4/24/2007.

Accession Number: 20070426-0153.

Comment Date: 5 p.m. Eastern Time on Tuesday, May 15, 2007.

Docket Numbers: ER07-784-000.

Applicants: ISO New England Inc.

Description: ISO New England Inc et al submits revisions to Market Rule 1.

Filed Date: 4/24/2007.

Accession Number: 20070426-0154.

Comment Date: 5 p.m. Eastern Time on Tuesday, May 15, 2007.

Docket Numbers: ER07-786-000.

Applicants: American Electric Power Service Corporation.

Description: American Electric Power Service Corp submits first revision to the Interconnection and Local Delivery Service Agreement 1427 with City of St Clairsville.

Filed Date: 4/25/2007.

Accession Number: 20070426-0162.

Comment Date: 5 p.m. Eastern Time on Wednesday, May 16, 2007.

Docket Numbers: ER07-787-000.

Applicants: American Electric Power Service Corp.

Description: The American Electric Power Service Corp agent for AEP Operating Companies submits First Revised Interconnection and Local Delivery Service Agreement 1424 w/the Village of Ohio City.

Filed Date: 4/25/2007.

Accession Number: 20070426-0155.

Comment Date: 5 p.m. Eastern Time on Wednesday, May 16, 2007.

Docket Numbers: ER07-788-000.

Applicants: American Electric Power Service Corp.

Description: The American Electric Power Service Corp agent for AEP Operating Companies submits First Revised Interconnection and Local Delivery Service Agreement 1426 with the Village of Republic.

Filed Date: 4/25/2007.

Accession Number: 20070426-0156.

Comment Date: 5 p.m. Eastern Time on Wednesday, May 16, 2007.

Docket Numbers: ER07-789-000.

Applicants: American Electric Power Service Corp.

Description: The American Electric Power Service Corporation for AEP Operating Companies submits First Revised Interconnection and Local Delivery Service Agreement 1429 w/Village of Sycamore.

Filed Date: 4/25/2007.

Accession Number: 20070426-0157.

Comment Date: 5 p.m. Eastern Time on Wednesday, May 16, 2007.

Docket Numbers: ER07-790-000.

Applicants: American Electric Power Services Corp.

Description: American Electric Power Service Corp submits first revision to the Interconnection and Local Delivery Service Agreement 1428 with Village of Shiloh.

Filed Date: 4/25/2007.

Accession Number: 20070426-0161.

Comment Date: 5 p.m. Eastern Time on Wednesday, May 16, 2007.

Docket Numbers: ER07-791-000.

Applicants: American Electric Power Service Corp.

Description: American Electric Power Service Corp submits first revision to the Interconnection and Local Delivery Service Agreement 1430 with City of Wapakoneta.

Filed Date: 4/25/2007.

Accession Number: 20070426-0160.

Comment Date: 5 p.m. Eastern Time on Wednesday, May 16, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov. or call (866) 208-3676 (toll free). For TTY, call (202) 502-8659.

Philis J. Posey,
Deputy Secretary.

[FR Doc. E7-8568 Filed 5-3-07; 8:45 am]

BILLING CODE 6717-01-P